DEPARTMENT OF COMMERCE

National Oceanic and Atmospheric Administration

Draft Revised Management Plan for the Apalachicola National Estuarine Research Reserve

AGENCY: Office for Coastal Management, National Ocean Service, National Oceanic and Atmospheric Administration, U.S. Department of Commerce.

ACTION: Request for comments.

SUMMARY: The National Oceanic and Atmospheric Administration (NOAA) is soliciting comments from the public regarding a proposed revision of the management plan for the Apalachicola National Estuarine Research Reserve. A management plan provides a framework for the direction and timing of a reserve's programs; allows reserve managers to assess a reserve's success in meeting its goals and to identify any necessary changes in direction; and is used to guide programmatic evaluations of the reserve. Plan revisions are required of each reserve in the National Estuarine Research Reserve System at least every five years. This revised plan is intended to replace the plan approved in 2015.

DATES: Comments must be received at the appropriate address (see ADDRESSES) on or before January 26, 2024.

ADDRESSES: The draft revised management plan can be downloaded or viewed at: https://floridadep.gov/ANERR. The document is also available by sending a written request to the point of contact identified below (see FOR FURTHER INFORMATION CONTACT).

You may submit comments by any of the following methods:

Electronic Submission: Submit all electronic public comments by email to matt.chasse@noaa.gov. Include “Comments on draft Apalachicola Management Plan” in the message's subject line. NOAA will accept anonymous comments, however, the written comments NOAA receives are considered part of the public record, and the entirety of the comment, including the name of the commenter, email address, attachments, and other supporting materials, will be publicly accessible. Sensitive personally identifiable information, such as account numbers and Social Security numbers, should not be included with the comment. Comments that are not related to the Management Plan for the Apalachicola National Estuarine Research Reserve, or that contain profanity, vulgarity, threats, or other inappropriate language will not be considered.

FOR FURTHER INFORMATION CONTACT: Matt Chasse of NOAA's Office for Coastal Management by email at matt.chasse@noaa.gov or by phone at (410) 570-1020.

SUPPLEMENTARY INFORMATION: Pursuant to 15 CFR 921.33(c), Florida must revise the management plan for the Apalachicola Research Reserve at least every five years. If approved by NOAA, the Apalachicola Research Reserve's revised plan will replace the plan previously approved in 2015.

Management plans outline a reserve's strategic goals and objectives; administrative structure; programs for conducting research and monitoring, education, and training; resource protection, restoration, and manipulation plans; public access and visitor use plans; consideration for future land acquisition; and facility development to support reserve operations. In particular, this draft of the revised management plan focuses on addressing specific coastal management issues including hydrological changes in the Apalachicola River and floodplain; coastal development; and climate change and extreme events.

In developing the strategic plan, the reserve recognized that our natural environment and the human communities were inextricably linked. Likewise, the reserve identified a common theme, either prospective or continuing, among the issues discussed in the plan. This common theme informs the planned actions related to conservation or protection and restoration. Resilience is another common theme that is weaved throughout the plan.

The Research and Monitoring Program aims to expand its understanding of the ecological processes related to the Apalachicola River and watershed. This will be achieved through continuous monitoring of weather, climate, sea level, and water quality data to provide and maintain baseline ecological status for the Apalachicola estuary. The program plans to develop new research initiatives and monitoring projects to fill gaps in the understanding of key ecosystem functions related to pollutants, habitats, and diversity. The program plans to continue being a central player in gathering and applying scientific information regarding the Apalachicola River and Bay system, and its efforts have contributed to the protection and management of this unique and valuable ecosystem. The program will also continue summarizing existing scientific information related to pollutants, habitats, and biological diversity to improve our understanding of the reserve and its ecology.

Stewardship of the reserve is accomplished by actively managing resources that the reserve is directly responsible for, and by influencing the activities of others within and adjacent to reserve-managed areas. The reserve's key land and water habitats are influenced by upstream water quality and quantity issues, making the Apalachicola Research Reserve especially conscious of potential environmental changes associated with off-site activities. As a result, the reserve works to ensure that the most effective and efficient techniques are utilized in reserve resource management activities.

The Education and Outreach Program efforts include on-site and off-site education activities that prioritize in-field studies for students and teachers; development and distribution of various media; dissemination of information at local events; recruitment and management of volunteers; and training workshops for local citizens and decision-makers. Programs target participants from all ages and walks of life while recognizing the local community as key stakeholders. The reserve is able to offer programming for K-12 students that provides for a continuity of content across the entire academic experience of local students.

The reserve's Coastal Training Program works with decision-makers, appointed leaders, and their staff to preserve the Apalachicola Bay and River by offering formal trainings, skill-building opportunities, tools, and technical assistance. These resources enable these groups to continue to implement sound policies based on science that protect the environment. Regular engagement with decision-makers strengthens partnerships, furthers the reserve's assessment of needs, and forges positive working relationships to increase stewardship and resilience throughout the reserve.

The Apalachicola Research Reserve is a complex of independently managed subunits that support an array of recreational and commercial activities and are impacted by water use policies of three states. This updated management plan aligns with similar plans being implemented by the land-managing partners within and adjacent to the reserve boundaries. Although the reserve boundaries are not changing in this management plan update, a possible future boundary expansion is in preliminary discussions with partners. Also, in 2020, the reserve completed the redesignation process for the Apalachicola Biosphere region as part of the United Nations Educational, Scientific, and Cultural Organization (UNESCO) Man and the Biosphere program. The revised management plan, once approved, would serve as the guiding document for the 234,715-acre (950 sq. km) research reserve for the next five years.

NOAA's Office for Coastal Management analyzes the environmental impacts of the proposed approval of this draft revised management plan in accordance with the National Environmental Policy Act (NEPA) of 1969, as amended, 42 U.S.C. 4321 et seq., and the Council on Environmental Quality Regulations for Implementing the Procedural Provisions of NEPA (40 CFR 1500-1508). The public is invited to comment on the draft revised management plan. NOAA will take these comments into consideration in deciding whether to approve the draft revised management plan in whole or in part.

Authority: 16 U.S.C. 1451 et seq.; 15 CFR 921.33.

Keelin S. Kuipers,
Deputy Director, Office for Coastal Management, National Ocean Service, National Oceanic and Atmospheric Administration.

[FR Doc. 2023-28523 Filed 12-26-23; 8:45 am]

BILLING CODE 3510-NK-P